DEPARTMENT OF TRANSPORTATION

Surface Transportation Board

[STB Finance Docket No. 35342]

Union Pacific Railroad Company—Temporary Trackage Rights Exemption—BNSF Railway Company

Pursuant to a written trackage rights agreement dated December 22, 2009, BNSF Railway Company (BNSF) has agreed to grant temporary nonexclusive overhead trackage rights to Union Pacific Railroad Company (UP) over BNSF lines extending between BNSF milepost 10.2 at Tukwila, WA, and BNSF milepost 38.4 at Reservation, WA, a distance of approximately 28.2 miles.

The transaction is scheduled to be consummated on February 7, 2010. The temporary trackage rights are scheduled to expire on or about March 7, 2010. The purpose of the temporary trackage rights is to facilitate maintenance work on UP lines.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If the notice contains false or misleading information, the exemption is void ab initio. Petitions to revoke the exemption under 49 U.S.C. 10502(d) may be filed at any time. The filing of a petition to revoke will not automatically stay the effectiveness of the exemption. Stay petitions must be filed by January 28, 2010 (at least 7 days before the exemption becomes effective).

An original and 10 copies of all pleadings, referring to STB Finance Docket No. 35342, must be filed with the Surface Transportation Board, 395 E Street, SW., Washington, DC 20423-0001. In addition, a copy of each pleading must be served on John J. Brennan, Senior Commerce Counsel, Union Pacific Railroad Company, 1400 Douglas Street, STOP 1580, Omaha, NE 68179.

Board decisions and notices are available on our Web site at: http://www.stb.dot.gov.

Decided: January 13, 2010.
By the Board, Joseph H. Dettmar, Acting Director, Office of Proceedings.
Jeffrey Herzig,
Clearance Clerk.

[FR Doc. 2010-926 Filed 1-20-10; 8:45 am]

BILLING CODE 4915-01-P